DEPARTMENT OF TRANSPORTATION

Federal Aviation Administration

Notice of Availability of a Final Environmental Assessment (Final EA) and Finding of No Significant Impact/Record of Decision (FONSI/ROD) for the Proposed New Air Traffic Control Tower at the St. Louis Downtown Airport in Cahokia, IL

AGENCY: Federal Aviation Administration (FAA), DOT.

ACTION: Notice of availability of a Final Environmental Assessment and Finding of No Significant Impact/Record of Decision (FONSI/ROD) for the Proposed New Air Traffic Control Tower at the St. Louis Downtown Airport in Cahokia, Illinois.

SUMMARY: The Federal Aviation Administration (FAA) is issuing this notice to advise the public that the FAA has prepared and approved on September 8, 2005, a Finding of No Significant Impact/Record of Decision (FONSI/ROD) based on the Final Environmental Assessment (Final EA) for the following proposed action at the St. Louis Downtown Airport: the construction of a new Air Traffic Control Tower, associated support building, parking lot, and access road.

The FAA prepared the Final EA in accordance with the National Environmental Policy Act of 1969 and the FAA's regulations and guidelines for environmental documents. The Final EA was reviewed and evaluated by the FAA and was accepted on September 6, 2005 as a Federal document by the FAA's Responsible Federal Official.

FOR FURTHER INFORMATION CONTACT: Ms. Virginia Marcks, Environmental Engineer, ANI-430, Federal Aviation Administration, 2300 East Devon Avenue, Des Plaines, Illinois 60018. Telephone number: (847) 294-7494.

SUPPLEMENTARY INFORMATION:

Background

The existing Air Traffic Control Tower (ATCT) at the St. Louis Downtown Airport was built in 1973 and soon after was expanded by the addition of a mobile office trailer to house administrative personnel. The current tower stands approximately 52 feet in height with a controller's eye height of approximately 41 feet. Continual visibility problems, due to existing trees in an adjacent residential development, impede the controller's line of sight for airfield movement areas and runway approaches. The visibility problem, due to trees obscuring significant portions of two runway ends, 4 and 30L, are ongoing and worsening. The proposed new ATCT, with a total elevation of 553.8′ MSL (141′ 10″ AGL) and a controller eye height of 528.3′ MSL (116′ 4″ AGL) would significantly improve visual capabilities.

Air traffic controller equipment in the existing tower has not been significantly upgraded since the tower was constructed in 1973, although there has been nearly a 50 percent increase in airport operations over the past 30 years. Annual aircraft operations recorded during operating hours of the ATCT (7 a.m. to 9 p.m.), in the early 1970s, when the existing tower was constructed, totaled approximately 115,000. In 2001, the total number of operations recorded between the 7 a.m. to 9 p.m. timeframe was nearly 170,000. The proposed new ATCT would allow for modernized equipment, enhancing the level of safety for the current number of aircraft operations at the St. Louis Downtown Airport.

The Final EA has been prepared in accordance with the National Environmental Policy Act of 1969, as amended, FAA Order 1050.1E, “Environmental Impacts: Policies and Procedures” and FAA Order 5050.4A, “Airport Environmental Handbook”. The proposed development action is consistent with the National Airspace System Plan prepared by the U.S. Department of Transportation, Federal Aviation Administration (FAA).

A Final Environmental Assessment and the Finding of No Significant Impact/Record of Decision is available for public viewing during normal business hours at the Federal Aviation Administration, Great Lakes Region, ANI-430, 2300 East Devon Avenue, Des Plaines, IL 60018 (by appointment due to security, 847-294-7494).

The Final EA and FONSI/ROD will be available through October 19, 2005.

Issued in Des Plaines, Illinois September 8, 2005.
Art V. Schultz,
Acting Manager, Chicago NAS Implementation Center, ANI-401, Great Lakes Region.

[FR Doc. 05-18813 Filed 9-20-05; 8:45 am]

BILLING CODE 4910-13-M